ENVIRONMENTAL PROTECTION AGENCY

[FRL-7444-6]

Connecticut Marine Sanitation Device Standard; Receipt of Petition

Notice is hereby given that a petition has been received from the State of Connecticut requesting a determination of the Regional Administrator, U.S. Environmental Protection Agency, pursuant to section 312(f)(3) of Pub. L. 92-500 as amended by Pub. L. 95-217 and Pub. L. 100-4, that adequate facilities for the safe and sanitary removal and treatment of sewage from all vessels are reasonably available for the area encompassing the Connecticut portions of the Pawcatuck River, Little Narragansett Bay, portions of Fisher Island Sound and all of Stonington Harbor in the town of Stonington, State of Connecticut, to qualify as a “No Discharge Area” (NDA). The areas covered under this petition extends from Wamphassuc Point (41° 19′ 40.63″ N by 71° 55′ 15.75″ W) due south past Noyes Shoal to the boundary between Connecticut and New York (41° 18′ 28.99″ N by 71° 55′ 15.75″ W), easterly following the boundary between Connecticut and New York to the intersection of the Connecticut, New York and Rhode Island State lines (41° 18′ 16.69″ N by 71° 54′ 27.23″ W) and following the boundary between Connecticut and Rhode Island to U.S. Route 1 over the Pawcatuck River and including all Connecticut waters seaward of U.S. Route 1.

The State of Connecticut has certified that there will be three pumpout facilities located within the proposed area to service vessels in the Stonington Harbor and Little Narragansett Bay area. The first is a shoreside facility located at the Dodson Boatyard. This pumpout facility is connected directly to the Stonington Borough Sewer system as permitted by the Stonington Water Pollution Control Authority. It has a depth of 6 feet at mean low water. The Dodson Boatyard facility is open daily from April, May and October, 8 a.m. to 5 p.m., and June through September 8 a.m. to 10 p.m. The facility staff monitors VHF CH 78 and may also be contacted at (860) 535-1507. The second shoreside facility is located at Norwest Marina. The pumpout unit is located 25 feet landward of the water and has a hose that extends to the adjacent floating service dock. The depth at the service dock is 6 feet at mean low water. This pumpout facility discharges directly into the Pawcatuck Sewer system. This facility is opened daily from April to November, 8 a.m. to 4:30 p.m. The facility staff monitors VHF Channel 68 and may also be contacted at (860) 535-1507. The third is a pumpout boat berthed at the Westerly Yacht Club that serves the Pawcatuck River, Watch Hill Harbor, Fishers Island Sound, Stonington Harbor and Little Narragansett Bay in Connecticut and Rhode Island. The boat has a holding capacity of 300 gallons. The pumpout boat is available during the boating season (April—October), Thursday and Friday from 10 a.m. to 4 p.m., and Saturday from 8 a.m. to 6 p.m. The schedule is expanded during July and August to provide service 7 days a week. The pumpout boat staff monitors VHF Channel 9 and may also be contacted by calling (401) 348-2538. For all three facilities it has been suggested to call ahead for service.

There are 13 marinas within the proposed No Discharge Area and the majority of marinas provide public restrooms for boaters and their clientele. During races the Wadawanuck Club also operates a floating public restroom at the month of the Stonington Harbor, which consists of a floating dock with portable toilets that are serviced and emptied onshore by the portable toilet vendor. In addition there are seven additional pumpout facilities in the surrounding area of the proposed No Discharge Area.

The State of Connecticut states that the total vessel population is 1600 vessels, 1548 are identified as recreational, and 52 are identified as commercial. The transient vessel population is estimated to be 300, which is included in the total figure. It is estimated that over 70% of the total vessel population is under 26 feet, and therefore do not have any type of Marine Sanitation Device (MSD).

The resources of the Stonington Harbor, Little Narragansett Bay, Pawcatuck River, and Fishers Island Sound are recreational and commercial. There are four public beaches, two boat ramps, the Barn Island Wildlife Management Area, and Sandy Point (owned by Avalonia Land Trust) are located within the proposed No Discharge Area. The area is used by both recreational and commercial shell fishermen for the harvest of hard clams, small populations of bay scallops, soft shell clams and blue mussels. In addition fishing is commonplace and the species found in the area are smelt, small cod, flounder, scup, menhaden, and white perch. The proposed area has a variety of rich natural habitats, and supports a wide diversity of species.

Comments and reviews regarding this request for action may be filed on or before March 17, 2003. Such communications, or requests for information or a copy of the applicant's petition, should be addressed to Ann Rodney, U.S. Environmental Protection Agency—New England Region, 1 Congress Street, Suite 1100, CWQ, Boston, MA 02114-2023. Telephone: (617) 918-1538.

Dated: January 21, 2003.
Robert Varney,
Regional Administrator, Region 1.

[FR Doc. 03-1867 Filed 1-28-03; 8:45 am]

BILLING CODE 6560-50-P